DEPARTMENT OF THE INTERIOR

National Park Service

[NPS-NCR-CHOH-34006; PPNCCHOHS0-PPMPSPD1Z.YM0000]

Public Meeting of the Chesapeake and Ohio Canal National Historical Park Commission

AGENCY: National Park Service, Interior.

ACTION: Notice of public meeting.

SUMMARY: In accordance with the Federal Advisory Committee Act of 1972, the National Park Service (NPS) is hereby giving notice that the Chesapeake and Ohio Canal National Historical Park Commission (Commission) will meet as indicated below.

DATES: The in-person meeting will take place on Thursday, August 11, 2022 with a virtual participation option. The meeting will begin at 9:00 a.m. until 2:30 p.m. (EASTERN).

ADDRESSES: The meeting will be held in the public conference room at park headquarters, Chesapeake and Ohio Canal National Historical Park, 142 W Potomac Street, Williamsport MD 21795. Individuals that prefer to participate virtually must contact the person listed in the [see FOR FURTHER INFORMATION CONTACT] at least five (5) business days prior to the meeting. The format and/or location of the meeting are subject to change depending on local health restrictions or mandates. For updated information please see https://www.nps.gov/choh/learn/news/federal-advisory-commission.htm or email choh_information@nps.gov.

FOR FURTHER INFORMATION CONTACT: Tina Cappetta, Superintendent, Chesapeake and Ohio Canal National Historical Park, 142 W Potomac Street, Williamsport, MD 21795, or via telephone at (301) 714-2201, or by email tina_cappetta@nps.gov.

SUPPLEMENTARY INFORMATION: The Commission was established on January 8, 1971, under 16 U.S.C. 410y-4, as amended, and is regulated by the Federal Advisory Committee Act. Appendix D, Division B, Title I, Section 134 of Public Law 106-554, December 21, 2000, and Section 1 of Public Law 113-178, September 26, 2014, respectively.

Purpose of the Meeting: The agenda will include discussion of park updates and outline goals for Fiscal Year 2022/23 and beyond. The final agenda will be posted on the Park's website at https://www.nps.gov/choh/learn/news/federal-advisory-commission.htm. The website includes meeting minutes from all prior meetings.

Interested persons may present, either orally or through written comments, information for the Commission to consider during the public meeting. Written comments will also be accepted prior to, during, or after the meeting.

Members of the public may submit written comments by mailing them to Mackensie Henn, Assistant to the Superintendent, Chesapeake and Ohio Canal National Historical Park, 142 W Potomac Street, Williamsport, MD 21795, (240) 520-3135, or by email choh_information@nps.gov. Comments sent via email should include Comments for August 2022 Advisory Commission Meeting in the subject line. All written comments will be provided to members of the Commission.

Depending on the number of people wishing to comment and the time available, the amount of time for oral comments may be limited. All comments will be made part of the public record and will be electronically distributed to all Commission members. Detailed minutes of the meeting will be available for public inspection within 90 days of the meeting.

Meeting Accessibility/Special Accommodations: The meeting is open to the public. Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Public Disclosure of Comments: Before including your address, phone number, email address, or other personal identifying information in your written comments, you should be aware that your entire comment including your personal identifying information will be made publicly available. While you can ask us in your comment to withhold your personal identifying information from public review, we cannot guarantee that we will be able to do so.

Authority: 5 U.S.C. appendix 2.

Alma Ripps,
Chief, Office of Policy.

[FR Doc. 2022-16091 Filed 7-26-22; 8:45 am]

BILLING CODE 4312-52-P